DEPARTMENT OF THE INTERIOR

National Park Service

[NPS-WASO-NAGPRA-NPS0040028; PPWOCRADN0-PCU00RP14.R50000]

Notice of Inventory Completion: California State University Northridge, Northridge, CA

AGENCY: National Park Service, Interior.

ACTION: Notice.

SUMMARY: In accordance with the Native American Graves Protection and Repatriation Act (NAGPRA), California State University Northridge (CSUN) has completed an inventory of human remains and has determined that there is a cultural affiliation between the human remains and Indian Tribes or Native Hawaiian organizations in this notice.

DATES: Repatriation of the human remains in this notice may occur on or after May 30, 2025.

ADDRESSES: Dayle Bingham, NAGPRA Coordinator, CSUN1811 Nordoff Street, Northridge, CA 91330, telephone (818) 677-6355, email dayle.bingham@csun.edu.

SUPPLEMENTARY INFORMATION: This notice is published as part of the National Park Service's administrative responsibilities under NAGPRA. The determinations in this notice are the sole responsibility of the CSUN, and additional information on the determinations in this notice, including the results of consultation, can be found in its inventory or related records. The National Park Service is not responsible for the determinations in this notice.

Abstract of Information Available

Human remains representing, at least, 28 individuals have been identified. No associated funerary objects are present. The individuals were removed from the Vasquez Rocks (CA-LAN-361, CA-LAN-369, CA-LAN-360, CA-LAN-373) sites in northern Los Angeles County, CA. These sites were originally located on land owned by Dr. Ascher, where his family regularly dug up cultural material throughout the mid-1900s. Further vandalization occurred in 1966 where bulldozers were used through parts of the sites. CSUN Archaeological Field School Director and Los Angeles County Natural History Museum (LACNHM) curator Dr. Charles Rozaire held field schools at these sites during the years 1967-1970. At these field schools, students under supervision, excavated and removed cultural items and ancestral human remains. Due to the history of vandalism and previous amateur excavations conducted at these sites, the context of the recovered cultural items and ancestral remains were unknown, incomplete, or partially known and documented.

In 2012, CSUN Anthropology Graduate student Sebastian Cristobal Garza conducted a bioarchaeological study of the ancestral remains housed at CSUN excavated from CA-LAN-361. Between 2012-2018, further bioarchaeological assessments were conducted to aid in the identification of human remains within the faunal material excavated from these Vasquez Rocks associated sites. The MNI for CA-LAN-361 is 20 individuals; three neonates (0-1 year), 11 children and adolescents (1-19 years), and six adults (20+ years). MNI for CA-LAN-360 is one, unknown age. MNI for CA-LAN-369 is five, unknown ages. MNI for CA-LAN-373 is one, unknown age. All human remains present are highly fragmented from previous vandalism including bulldozing and looting, exposure to the elements, and possible cremation heat exposure.

Archaeological evidence shows that Vasquez Rocks and associated sites located in Agua Dulce (CA-LAN-361, CA-LAN-369, CA-LAN-360, CA-LAN-373) were used as a cemetery complex between 2315 BCE-79 BCE (Caruso 1988, Garza 2012, King et al. 1974). Research has shown that Serrano and Tataviam peoples have continuously occupied the San Gabriel Mountains and the surrounding areas for 5,000-6,000 years BP. Linguistic evidence supports the notion of a continuous shared group identity between those people using Vasquez Rocks roughly 3000 years ago and modern Native Americans of Serrano and Tataviam descent. Using ethnographic evidence and Traditional Knowledge, the Serrano and Tataviam peoples have known the area of the Agua Dulce region as a part of their homeland since time immemorial.

Human remains representing, at least, one individual has been identified. No associated funerary objects are present. The individual was removed from Hughes-Elizabeth Lakes School, Lake Hughes, Los Angeles County, CA. This was originally identified as a human bone fragment during an archaeological salvage and survey excavation in 1969 by Herrick Hanks and L. Hubernack on behalf of California State University Northridge Archaeological Research Center at the time. Since then, this human bone fragment has been stored on campus and confirmed to be human. No other human remains are present from this salvage survey excavation.

This excavation, as noted, was salvage survey work for Hughes-Elizabeth Lakes School, Lake Hughes in Los Angeles County, where construction on school grounds was already underway. According to reports, bulldozers on site uncovered archaeological material near school building, and Herrick Hanks and L. Hubernack from CSUN were called upon to assist. Since being brought back to CSUN campus in 1969 for storage, no further research or archaeological assessments have been conducted.

Using archaeological and geographical information, the human remains are determined to be Native American. Archaeologists have asserted that Serrano and Tataviam peoples have continuously occupied the areas surrounding the Antelope Valley as well as the San Gabriel Mountains for 5,000-6,000 years BP. Serrano Traditional Knowledge identifies Lake Hughes as home to Serrano peoples since time immemorial.

Cultural Affiliation

Based on the information available and the results of consultation, cultural affiliation is reasonably identified by the geographical location or acquisition history of the human remains described in this notice.

Determinations

The CSUN has determined that:

• The human remains described in this notice represent the physical remains of 28 individuals of Native American ancestry.

• There is a connection between the human remains described in this notice and the Morongo Band of Mission Indians, California and the Yuhaaviatam of San Manuel Nation (previously listed as San Manuel Band of Mission Indians, California).

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after May 30, 2025. If competing requests for repatriation are received, the CSUN must determine the most appropriate requestor prior to repatriation. Requests for joint repatriation of the human remains are considered a single request and not competing requests. The CSUN is responsible for sending a copy of this notice to the Indian Tribes and Native Hawaiian organizations identified in this notice.

Authority: Native American Graves Protection and Repatriation Act, 25 U.S.C. 3003, and the implementing regulations, 43 CFR 10.10.

Dated: April 15, 2025.
Melanie O'Brien,
Manager, National NAGPRA Program.

[FR Doc. 2025-07435 Filed 4-29-25; 8:45 am]

BILLING CODE 4312-52-P